FEDERAL COMMUNICATIONS COMMISSION

47 CFR Part 1

[WC Docket No. 18-89; Report No. 3185; FR ID 64443]

Petition for Reconsideration of Action in Rulemaking Proceeding

AGENCY: Federal Communications Commission.

ACTION: Petition for Reconsideration.

SUMMARY: Petition for Reconsideration (Petition) has been filed in the Commission's rulemaking proceeding by Carri Bennet, on behalf of The Rural Wireless Association, Inc.

DATES: Oppositions to the Petition must be filed on or before January 14, 2022. Replies to oppositions must be filed on or before January 24, 2022.

ADDRESSES: Federal Communications Commission, 45 L Street NE, Washington, DC 20554.

FOR FURTHER INFORMATION CONTACT: William Layton, Telecommunications Access Policy Division, Wireline Competition Bureau, (202) 418-7400 or via email at William.Layton@fcc.gov.

SUPPLEMENTARY INFORMATION: This is a summary of the Commission's document, Report No. 3185, released December 20, 2021. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: In the Matter of Protecting Against National Security Threats to the Communications Supply Chain Through FCC Programs, Third Report and Order, published at 86 FR 46995, August 23, 2021, in WC Docket No. 18-89. This document is being published pursuant to 47 CFR 1.429(e). See also 47 CFR 1.4(b)(1) and 1.429(f), (g).

Number of Petitions Filed: 1.

Federal Communications Commission.
Marlene Dortch,
Secretary, Office of the Secretary.

[FR Doc. 2021-28295 Filed 12-29-21; 8:45 am]

BILLING CODE 6712-01-P